DEPARTMENT OF THE INTERIOR

National Park Service

National Register of Historic Places; Notification of Pending Nominations

Nominations for the following properties being considered for listing in the National Register were received by the National Park Service before July 8, 2000. Pursuant to § 60.13 of 36 CFR part 60 written comments concerning the significance of these properties under the National Register criteria for evaluation may be forwarded to the National Register, National Park Service, 1849 C St. NW, NC400, Washington, DC 20240. Written comments should be submitted by July 31, 2000.

Carol D. Shull,
Keeper of the National Register.

California

Monterey County: Steinbeck, John, House, 132 Central Ave., Salinas, 00000856

Connecticut

Hartford County: Manchester Historic District, Roughly bounded by Center Spring Park, Main St., I-384 and Campfield Rd., Manchester, 00000857

Kentucky

Estill County:

Irvine Grade School, 228 Broadway, Irvine, 00000865

Irvine Historic Business District, Roughly the jct. of KY 52 and KY 89, Irvine, 00000866

Jackson County: Lakes, Arthur, Log House, 401 Lakes Creek Rd., McKee, 00000867

Jefferson County: Lee, Addison W., House, 4218 Upper River Rd., Louisville, 00000868

Wirth, Lang and Company—The Louisville Leather Company Tannery Building, 711-715 Brent St., Louisville, 00000869

Jessamine County: Camp Nelson, US 27, Nicholasville, 00000861

Kenton County: Moser Family Houses, 1224 and 1226 Highway Ave., Covington, 00000858

McCracken County: Home of the Friendless, 1335 Burnett St., Paducah, 00000860

Warren County: Shake Rag Historic District, Roughly bounded by US 31W Bypass, Chestnut St., E. 5th Ave. and College St., Bowling Green, 00000859

Maryland

Baltimore Independent city: Eastern High School, 101 E 33rd St., Baltimore, 00000870

Massachusetts

Plymouth County: Winslow, Isaac, House, 64 Careswell St., Marshfield, 00000872

Suffolk County: Dearborn School, 25 Ambrose St., Boston, 00000871

Montana

Lewis and Clark County: Wick—Seiler House, 729 11th Ave., Helena, 00000873

Missoula County: Lenox Flats (Missoula MPS), 300-306 West Broadway, Missoula, 00000874

New Mexico

Taos County: Black Copper Mine and Stamp Mill, Black Copper Canyon Rd., Red River, 00000875

New York

Allegany County: West Almond Churches, Cty. Rte. 2, West Almond, 00000876

Chemung County: Christ Episcopal Church, (Historic Churches of the Episcopal Diocese of Central New York MPS), 117 Main St., Wellsburg, 00000879

Columbia County:

Donnelly House, Cty. Rd. 5, New Lebanon, 00000880

Riders Mills Historic District, NY 66, Bachus Rd., Riders Mills Rd., Chatham, 00000877

Tioga County: Grace Episcopal Church, (Historic Churches of the Episcopal Diocese of Central New York MPS), 445 Park Ave., Waverly, 00000878

North Carolina

Gates County: Rountree Family Farm, 049 NC 37 N, Gatesville, 00000881

Pennsylvania

Greene County: Kent, Thomas, Jr., Farm, 208 Laurel Rd., Waynersburg, 00000882

Texas

Burnet County: Briggs State Bank, Loop 308, approx. 0.5 mi. N of jct. with US 183, Briggs, 00000885

Comal County: Groos, Carl W.A., House, 228 S. Seguin St., New Braunfels, 00000884

Harris County: Rothko Chapel, 1409 Sul Ross Ave., Houston, 00000883

Virginia

Alexandria Independent city: Bruin's Slave Jail, 1707 Duke St., Alexandria, 00000890

Fluvanna County:

Glen Burnie, US 15, 0.25 mi. N of Palmyra, Palmyra, 00000893

Melrose, VA 640, SW of jct. of VA 640 and VA 650, Fork Union, 00000892

Isle Of Wight County: Windsor Castle Farm, 301 Jericho Rd., Smithfield, 00000897

Lancaster County: Irvington, King Carter Drive and Irvington Road, Irvington, 00000895

Lexington Independent city: Reid—White—Philbin House, 208 W. Nelson St., Lexington, 00000889

Petersburg Independent city:

Lee Memorial Park, 1832 Johnson Rd., Petersburg, 00000896

Peabody Building of the Peabody—Williams School, Jones St., Petersburg, 00000891

Richmond Independent city:

Church Hill North Historic District (Boundary Increase), Roughly bounded by 25th St., T St., 32nd St. and M St., Richmond, 00000887

Manchester Industrial Historic District, Roughly bounded by Perry St., James R., Mayo's Bridge, Maury St., and 10th St., Richmond, 00000886

Smyth County: Marion Historic District, Roughly along Main, Cherry, Strother, Lee, North College and College Sts., Marion, 00000888

Surry County: Cedar Ridge, 4861 Laurel Dr., Disputanta, 00000894

A request for REMOVAL has been made for the following resources:

Alaska

Yukon-Koyukuk County: Taylor, James, Cabins (Yukon River Lifeways TR), Right Bank of the Yukon opposite Fourth of July Creek, Eagle vicinity, 87001203

Minnesota

Goodhue County: Roscoe Store (Goodhue County MRA), Co. Hwy. 11 Pine Island, 80002055

Hennepin County: Dania Hall, Corner of 5th St. and Cedar Ave. Minneapolis, 74001020

Lac Qui Parle County: Hotel Lac qui Parle 202 6th Ave. Madison, 90001820

Redwood County: Milroy Block (Redwood County MRA), Euclid Ave. and Cherry St. Milroy, 80002136

Steele County: Owatonna High School 333 E. School St., Owatonna, 86002124

Big Stone County: Shannon Hotel, Studdart Ave. and 2nd St., Graceville, 85001773

Wright County:

Marsh Octagon Barn (Wright County MRA), Off Co. Hwy. 14, Rockford, 79001278

Middleville Township Hall (Wright County MRA), CR 6, Howard Lake vicinity, 79001271

Oregon

Multnomah County: Clarke—Woodward Drug Company Building, 911 NW Hoyt, Portland, 89000121

[FR Doc. 00-17922 Filed 7-13-00; 8:45 am]

BILLING CODE 4310-70-U